FEDERAL MARITIME COMMISSION

Ocean Transportation Intermediary License Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
002213NF | Staudt International Services Corp., 1028 E. 14th Street, Los Angeles, CA 90021 | September 16, 2010.
018309N | Gunter Shipping, Inc., 1565 Bergen Street, Brooklyn, NY 11213 | September 17, 2010.
020934N | D.L. International Logistics Inc., 2020 NW. 129th Avenue, #208, Miami, FL 33182 | August 23, 2010.

Sandra L. Kusumoto,
Director, Bureau of Certification and Licensing.

[FR Doc. 2010-27839 Filed 11-3-10; 8:45 am]

BILLING CODE 6730-01-P